POSTAL REGULATORY COMMISSION

[Docket No. MC2023-132; Order No. 6481]

Mail Classification Schedule

AGENCY: Postal Regulatory Commission.

ACTION: Notice.

SUMMARY: The Commission is recognizing a recent Postal Service filing concerning product description changes to the Mail Classification Schedule related to International Mail. This document informs the public of the filing, invites public comment, and takes other administrative steps.

DATES: Comments are due: May 3, 2023.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Summary of Changes

III. Notice of Commission Action

IV. Ordering Paragraphs

I. Introduction

On April 10, 2023, the Postal Service filed a notice of changes to product descriptions pursuant to CFR 3040.190.¹ The Postal Service seeks to make changes to the Mail Classification Schedule (MCS) descriptions of the following Market Dominant international mail Special Services: International Registered Mail (offered within the International Ancillary Services product and appearing in MCS section 1510.2), International Reply Coupon (IRC) Service (appearing in MCS section 1535), and International Business Reply Mail Service (IBRS) (appearing in MCS section 1540). Notice at 1. The changes are intended to take effect on July 9, 2023. Id.

¹ Notice of United States Postal Service of Minor Classification Changes, April 10, 2023 (Notice).

II. Summary of Changes

For all three services at issue, the Postal Service asserts that its proposed changes would update existing references to applicable Universal Postal Convention Regulations. Id. at 2. Additionally, the Postal Service proposes two additional changes to the Outbound International Registered Mail service to (1) correct the name of the underlying product to which this service is ancillary (Outbound Single-Piece First-Class Mail International); and (2) provide a reference to the maximum weight for that underlying product. Id.

The Postal Service maintains that the proposed changes satisfy the requirements of 39 CFR 3040.190 because the changes should result in a more accurate representation of the Postal Service's current offerings and should allow mailers to more precisely locate pertinent information; the Notice is filed no later than 15 days prior to the intended effective date; and the changes revise the MCS to be consistent as a whole or to include more accurate references to the Universal Postal Convention Regulations without otherwise changing the products, prices, or price groups. Id. at 1-2. The Postal Service also asserts that the proposed changes do not significantly change the user experience for any product and that there is no evidence that the changes will significantly impact competitors. Id. at 3. The Postal Service further contends that the proposed changes do not constitute material changes to the respective product descriptions as governed by 39 CFR 3040.180. Id.

III. Notice of Commission Action

Pursuant to 39 CFR 3040.191, the Commission has posted the Notice on its website and invites comments on whether the Postal Service's filings are consistent with the policies and applicable criteria of chapter 36 of title 39 of the United States Code, 39 CFR 3040.190-192, and any applicable Commission directives and orders. Comments are due no later than May 3, 2023. The filing can be accessed via the Commission's website (http://www.prc.gov).

The Commission appoints R. Tim Boone to represent the interests of the general public (Public Representative) in this docket.

IV. Ordering Paragraphs

It is ordered:

1. The Commission establishes Docket No. MC2023-132 to consider matters raised by the Notice.

2. Comments by interested persons are due by May 3, 2023.

3. Pursuant to 39 U.S.C. 505, R. Tim Boone is appointed to serve as an officer of the Commission (Public Representative) to represent the interests of the general public in this proceeding.

4. The Commission directs the Secretary of the Commission to arrange for prompt publication of this notice in the Federal Register.

By the Commission.
Erica A. Barker,
Secretary.

[FR Doc. 2023-07970 Filed 4-14-23; 8:45 am]

BILLING CODE 7710-FW-P